DEPARTMENT OF DEFENSE

Office of the Secretary

Defense Business Board; Notice of Federal Advisory Committee Meeting

AGENCY: Deputy Chief Management Officer, Department of Defense.

ACTION: Notice of Federal Advisory Committee meeting.

SUMMARY: The Department of Defense (DoD) is publishing this notice to announce that the following Federal Advisory Committee meeting of the Defense Business Board will take place.

DATES: Open to the public Thursday, April 20, 2017 from 10:30 a.m. to 11:15 a.m.

ADDRESSES: The address for the open meeting is Room 3E863 in the Pentagon, Washington, DC.

FOR FURTHER INFORMATION CONTACT: Roma Laster, (703) 695-7563 (Voice), (703) 614-4365 (Facsimile), roma.k.laster.civ@mail.mil (Email). Mailing address is Defense Business Board, 1155 Defense Pentagon, Room 5B1088A, Washington, DC 20301-1155, Web site: http://dbb.defense.gov/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. For meeting information please contact Mr. Steven Cruddas, Defense Business Board, 1155 Defense Pentagon, Room 5B1088A, Washington, DC 20301-1155, steven.m.cruddas.civ@mail.mil, (703) 697-2168. For submitting written comments or questions to the Board, send via email to mailbox address: osd.pentagon.odam.mbx.defense-business-board@mail.mil. A copy of the public agenda and the terms of reference for the Task Group study may be obtained from the Board's Web site at http://dbb.defense.gov/meetings.

Purpose of the Meeting: The mission of the Board is to examine and advise the Secretary of Defense on overall DoD management and governance. The Board provides independent advice which reflects an outside private sector perspective on proven and effective best business practices that can be applied to DoD. The Board will hear an update from its Task Group on “Implications of Technology on the Future Workforce.”

Agenda:

10:30 a.m.-10:35 a.m.—DFO Comments to Public Attendees.

10:35 a.m.-11:05 a.m.—DBB Study Update on “Implications of Technology on the Future Workforce.”

11:05 a.m.-11:15 a.m.—Public Comments (if time permits).

Meeting Accessibility: Pursuant to FACA and 41 CFR 102-3.140, this meeting is open to the public. Seating is limited and is on a first-come basis. All members of the public who wish to attend the public meeting must contact Mr. Steven Cruddas at the number listed in the SUPPLEMENTARY INFORMATION section no later than 12:00 p.m. on Friday, April 14, 2017 to register and make arrangements for a Pentagon escort, if necessary. Public attendees requiring escort should arrive at the Pentagon Metro Entrance with sufficient time to complete security screening no later than 10:00 a.m. on April 20. To complete security screening, please come prepared to present two forms of identification of which one must be a pictured identification card.

Special Accommodations: Individuals requiring special accommodations to access the public meeting should contact Mr. Cruddas at least five (5) business days prior to the meeting so that appropriate arrangements can be made.

Written Statements: Written comments should be received by the DFO at least five (5) business days prior to the meeting date so that the comments may be made available to the Board for their consideration prior to the meeting. Written comments should be submitted via email to the email address for public comments given in the SUPPLEMENTARY INFORMATION section in either Adobe Acrobat or Microsoft Word format. Please note that since the Board operates under the provisions of the Federal Advisory Committee Act, as amended, all submitted comments and public presentations will be treated as public documents and will be made available for public inspection, including, but not limited to, being posted on the Board's Web site.

Dated: March 30, 2017.
Aaron Siegel,
Alternate OSD Federal Register Liaison Officer, Department of Defense.

[FR Doc. 2017-06638 Filed 4-3-17; 8:45 am]

BILLING CODE 5001-06-P